DEPARTMENT OF TRANSPORTATION

Office of the Secretary

49 CFR Part 40

[Docket DOT-OST-2021-0093]

RIN 2105-AE94

Procedures for Transportation Workplace Drug and Alcohol Testing Programs; Withdrawal of Direct Final Rule

AGENCY: Office of the Secretary, Department of Transportation (DOT).

ACTION: Withdrawal of direct final rule.

SUMMARY: Due to the receipt of adverse comments, the U.S. Department of Transportation (DOT) is withdrawing the direct final rule “Procedures for Transportation Workplace Drug and Alcohol Testing Programs,” published on June 21, 2024.

DATES: Effective August 1, 2024, DOT withdraws the direct final rule published at 89 FR 51984, on June 21, 2024.

FOR FURTHER INFORMATION CONTACT: Bohdan Baczara, Deputy Director, Office of Drug and Alcohol Policy and Compliance, 1200 New Jersey Avenue SE, Washington, DC 20590; telephone number 202-366-3784; ODAPCwebmail@dot.gov.

SUPPLEMENTARY INFORMATION: On June 21, 2024, DOT published a direct final rule (89 FR 51984). We stated in that direct final rule that if we received adverse comment by June 22, 2024, the direct final rule would not take effect and we would publish a timely withdrawal in the Federal Register. Because DOT subsequently received adverse comment on that direct final rule, we are withdrawing the direct final rule.

DOT published a parallel proposed rule on the same day (89 FR 52002, June 21, 2024) as the direct final rule, which proposed the same rule changes as the direct final rule. The proposed rule invited comment on the substance of these rule changes. DOT will respond to comments as part of any final action taken on the parallel proposed rule. As stated in the direct final rule and the parallel proposed rule, we will not institute a second comment period on this action.

List of Subjects in 49 CFR Part 40

Administrative practice and procedures, Alcohol abuse, Alcohol testing, Drug abuse, Drug testing, Laboratories, Reporting and recordkeeping requirements, Safety, Transportation.

Signed pursuant to authority delegated at 49 CFR 1.27(c) in Washington, DC.
Subash Iyer,
Acting General Counsel.

Accordingly, as of August 1, 2024, DOT withdraws the direct final rule amending 49 CFR part 40, which published at 89 FR 51984, on June 21, 2024.

[FR Doc. 2024-16765 Filed 7-31-24; 8:45 am]

BILLING CODE 4910-9X-P